DEPARTMENT OF THE INTERIOR

Bureau of Land Management

[LLORN03000.L63100000.DB0000.17XL1116AF.252Z.HAG 17-0170]

Notice of Intent To Prepare a Hult Reservoir and Dam Safety Environmental Impact Statement in Lane County, Oregon

AGENCY: Bureau of Land Management, Interior.

ACTION: Notice of Intent.

SUMMARY: In accordance with the National Environmental Policy Act (NEPA) of 1969 and the Federal Land Policy and Management Act of 1976, the Bureau of Land Management (BLM) Siuslaw Field Office, Northwest Oregon District, intends to prepare the Hult Reservoir and Dam Safety Environmental Impact Statement (EIS). Through this Notice, the BLM is announcing the beginning of the scoping process to solicit public comments and identify issues.

DATES: This Notice initiates the public scoping process for the EIS. Comments may be submitted in writing until May 31, 2018. The date(s) and location(s) of any scoping meetings will be announced at least 15 days in advance through email and the ePlanning website. In order to be included in the Draft EIS, all comments must be received prior to the close of the 30-day scoping period or 15 days after the last public meeting, whichever is later. The BLM will provide additional opportunities for public participation upon publication of the Draft EIS.

ADDRESSES: You may submit comments related to the EIS by any of the following methods:

• Email: blm_or_no_publiccomments_nepa@blm.gov; ATTN: Panchita Paulete, Hult Dam and Reservoir Safety EIS.

• Fax: 541-683-6981; ATTN: Panchita Paulete, Planning and Environmental Coordinator.

• Mail: Bureau of Land Management, 3106 Pierce Parkway, Suite E, Springfield, OR 97477-7909.

Documents pertinent to this proposal may be examined at the Northwest Oregon District's Springfield Interagency Office located at 3106 Pierce Parkway in Springfield, Oregon.

FOR FURTHER INFORMATION CONTACT: Panchita Paulete, Planning and Environmental Coordinator; 541-683-6976; blm_or_no_publiccomments_nepa@blm.gov Contact Ms. Paulete if you wish to add your name to our mailing list. Persons who use a telecommunications device for the deaf (TDD) may call the Federal Relay Service (FRS) at 1(800) 877-8339 to contact the above individual during normal business hours. The FRS is available 24 hours a day, 7 days a week, to leave a message or question with the above individual. You will receive a reply during normal business hours.

SUPPLEMENTARY INFORMATION: The Hult Reservoir is located within the Lake Creek fifth-field watershed, near the community of Horton, Oregon, within the Siuslaw Field Office of the Northwest Oregon District at Township 15S, Range 7W, Sections 23 and 26, in Lane County, Oregon.

The Hult Reservoir is a 41-acre man-made lake, approximately a half-mile long and less than a quarter-mile wide. The reservoir's depth ranges from approximately 15 feet to 35 feet, and contains another 10 to 15 feet of soft, silty sand. Below depths of 25 to 43 feet, it is estimated that the foundation of the reservoir consists of landslide deposits, which generally include cobbles, bounders, and large rock beds. The dam is an earthen dam which consists of loose rock placed on the downstream face.

The dam and spillway at Hult Reservoir were originally constructed in 1950 to create a holding pond for logs by the Hult Timber Company. These lands were transferred to the BLM in 1994. During severe winter weather, the amount of rainfall in the catchment area contributes substantially to the water levels in the reservoir. The dam requires constant monitoring and adjustment of the outflow valve by BLM engineers to avoid overwhelming the current water level controls in place. Since the transfer of ownership, costly renovations to the dam (e.g., grouting, reinforcement structures, and monitoring devices) have been ongoing to address structural and safety concerns.

In July 2012, the BLM completed a Comprehensive Dam Evaluation on the dam and spillway at Hult Reservoir, which found eleven potential failure modes presenting unacceptable high risks for dam failure, five of which warrant expedited action to address. These evaluations of the dam infrastructure also identified that the dam and spillway are currently at an elevated cumulative risk posed by all possible failure modes and associated potential life loss. In 2016, the BLM implemented improvements to the dam infrastructure, which improved some elements presenting cumulative risk. However, there is still a need to address the remaining cumulative safety risks associated with the dam at Hult Reservoir.

The purpose of this project is to reduce the risk of infrastructure failure at Hult Dam from excessive water and sediment loading, within the scope of what the BLM could reasonably fund and within the scope of the BLM's jurisdiction.

The EIS will analyze a range of alternatives to provide for a long-term management approach. The EIS will analyze a No Action alternative that would analyze the continued management and standard maintenance of Hult Dam in the current conditions. Some potential action alternatives include:

• Improving the existing dam infrastructure: This alternative would retain all existing dam infrastructure, but would implement patches, reinforcements, or other additions necessary to ensure the safety and function of the structures.

• Removing the existing infrastructure and rebuilding the dam: This alternative would remove all existing dam infrastructure and rebuild the dam to necessary safety standards and flow functionality.

• Removing the dam and draining the reservoir: This alternative would permanently remove existing dam infrastructure to allow for permanent draining of the reservoir.

Some of the anticipated concerns and resources that may be affected for this project include: Recreational opportunities, socioeconomic values, sediment routing, hydrologic flow controls, fisheries, sensitive plants, invasive and noxious weeds, cultural resources, access routes, and engineering design/safety. The BLM has identified the following potential issues to analyze in the EIS:

• How would the alternatives affect the safety risks to visitors and local communities from dam failure?

• How much would the alternatives cost to implement?

• How would the alternatives affect revenues of the local communities?

• How would the alternatives affect Endangered Species Act (ESA)-listed fish passage?

• How would the alternatives affect ESA-listed fish habitat, including water temperature?

• How would the alternatives affect downstream water quantity available for consumptive water rights?

• How would the alternatives affect the historic value of the dam?

• How would the alternatives affect visitor recreation access and opportunities?

• How would the alternatives affect BLM-managed recreation sites?

• How would the alternatives affect existing populations of Bureau sensitive species plants?

• How would the alternatives affect the introduction and spread of invasive plants?

Access to lands to the north of Hult Dam may be impacted during implementation of some potential action alternatives. The EIS will include analysis of changes to access from engineering design of the alternatives and the effect on safety.

The BLM is conducting an evaluation of the dam to determine if the structure would qualify as a National Historic Property.

Hult Dam has a fish ladder that does not function for passing Oregon coastal coho salmon. The non-functional fish ladder at the dam site currently blocks upstream fish passage to several miles of designated Oregon coastal coho critical habitat. Oregon coastal coho salmon are listed as threatened under the ESA.

Two BLM sensitive aquatic plant species are present at the northern end of Hult Reservoir in a marsh: Bog clubmoss (Lycopodiella inundata) and humped bladderwort (Utricularia gibba). The noxious weed parrots feather (Myriophyllum aquaticum) occurs in the reservoir, as does the non-native invasive weed reed canarygrass (Phalaris arundinacea). Herbicide use to manage the spread of the noxious and non-native invasive may be part of the alternatives considered.

At this time, the reservoir upstream of the dam is managed as the Hult Reservoir Recreation Site Special Recreation Management Area, which offers opportunities for camping, day use, swimming, fishing, and scenic driving. There are no developed campsites; however, two vault toilets are available to the public.

In December 2016, the BLM brought in a neutral third-party contractor to conduct stakeholder assessments and assist with facilitation of public involvement for this project. In March 2017, the contractor conducted in-person interviews with sixteen stakeholders, primarily in the town of Horton, Oregon, and in Triangle Lake community. Stakeholders represented property owners near the Hult Reservoir, local business owners, Triangle Lake School staff members, Siuslaw Watershed Council members, and fishing interest groups. The BLM will continue to use this neutral third-party contractor throughout the EIS process to assist with public outreach and engagement.

Federal, State, and local agencies, along with Tribes and other stakeholders that may be interested in or affected by the proposed project that the BLM is evaluating are invited to participate in the scoping process and, if eligible, may request or be requested by the BLM to participate in the development of the EIS as a cooperating agency. The BLM will consult with The Confederated Tribes of the Grand Ronde; Confederated Tribes of the Coos, Lower Umpqua, and Siuslaw Indians; and Confederated Tribes of the Siletz Indians during this analysis process.

Instructions for submitting a public comment are provided under the ADDRESSES section above, and are provided on the BLM's ePlanning page for this EIS. Before including your address, phone number, email address, or other personal identifying information in your comments, please be aware that your entire comment—including your personal identifying information—may be made publicly available at any time. While you can ask us in your comment to withhold your personal identifying information from public review, we cannot guarantee that we will be able to do so.

Jamie E. Connell,
State Director, Oregon/Washington.

[FR Doc. 2018-09185 Filed 4-30-18; 8:45 am]

BILLING CODE 4310-33-P